DEPARTMENT OF TRANSPORTATION

Office of the Secretary

Aviation Proceedings, Agreements Filed During the Week Ending October 27, 2000

The following Agreements were filed with the Department of Transportation under the provisions of 49 U.S.C. 412 and 414. Answers may be filed within 21 days after the filing of the application.

Docket Number: OST-2000-8204.

Date Filed: October 27, 2000.

Parties: Members of the International Air Transport Association.

Subject: PTC23 AFR-TC3 0108 dated 10 October 2000, TC23/TC123 Africa-TC3 Resolutions r1-r43, PTC23 AFR-TC3 0110 dated 20 October 2000, Technical Correction, Minutes—PTC23 AFR-TC3 0109 dated 20 October 2000, Tables—PTC23 AFR-TC3 FARES 0048 dated 20 October 2000, Intended effective date: 1 April 2001.

Docket Number: OST-2000-8205.

Date Filed: October 27, 2000.

Parties: Members of the International Air Transport Association.

Subject: PTC23 ME-TC3 0104 dated 3 October 2000, TC23/TC123 Middle East-TC3 Resolutions r1-r52, Minutes—PTC23 ME-TC3 0105 dated 27 October 2000, Tables—PTC23 ME-TC3 FARES 0045 dated 10 October 2000, Intended effective date: 1 April 2001.

Docket Number: OST-2000-8208.

Date Filed: October 27, 2000.

Parties: Members of the International Air Transport Association.

Subject: PTC1 0166 dated 27 October 2000, Mail Vote 092—Resolution 010k, TC1 Caribbean Special Passenger Amending Resolution, Intended effective date: 15 November 2000.

Dorothy Y. Beard,
Federal Register Liaison.

[FR Doc. 00-29236 Filed 11-14-00; 8:45 am]

BILLING CODE 4910-62-P